DEPARTMENT OF COMMERCE

National Oceanic and Atmospheric Administration

RIN 0648-XF407

Gulf of Mexico Fishery Management Council; Public Meetings

AGENCY: National Marine Fisheries Service (NMFS), National Oceanic and Atmospheric Administration (NOAA), Commerce.

ACTION: Notice; public hearing via webinar.

SUMMARY: The Gulf of Mexico Fishery Management Council (Council) will hold a public hearing via webinar to solicit public comments on Draft Reef Fish Amendment 47—Modify Vermilion Snapper ACLs and MSY Proxies.

DATES: The public hearing will take place via webinar on Wednesday, May 24, 2017; starting at 6 p.m. EDT and will conclude no later than 9 p.m. Written public comments must be received on or before 5 p.m. EDT on Tuesday, May 16, 2017.

ADDRESSES: Gulf of Mexico Fishery Management Council, 2203 N. Lois Avenue, Suite 1100, Tampa, FL 33607; telephone: (813) 348-1630; www.gulfcouncil.org.

FOR FURTHER INFORMATION CONTACT: Steven Atran, Senior Fishery Biologist, Gulf of Mexico Fishery Management Council; telephone: (813) 348-1630, steven.atran@gulfcouncil.org.

SUPPLEMENTARY INFORMATION: Based on the results of a 2016 vermilion snapper stock assessment, the Council's Scientific and Statistical Committee (SSC) concluded that the vermilion snapper stock is neither overfished nor undergoing overfishing. The SSC provided recommendations for the overfishing limit (OFL) during 2017-21 based on a proxy for maximum sustainable yield (MSY) of 30% SPR, and recommended acceptable biological catch (ABC) during 2017-2021 based on fishing at a fishing mortality rate that was 75% of the OFL fishing mortality rate. The Council accepted 30% SPR as the preferred MSY proxy, but also asked for analysis of the OFL and ABC yields at 26% SPR, which is a slightly less conservative MSY proxy, resulting in higher yields but also a smaller spawning stock biomass.

The Council needs to take two actions in this amendment. Action 1 is to adopt an MSY proxy. The alternatives are: (1) To not adopt a proxy (no action), (2) adopt the proxy of 30% SPR (preferred alternative), or (3) adopt the proxy of 26% SPR. Action 2 is to set annual catch limits (ACLs) for 2017-21. The alternatives are: (1) To keep the current 3.42 million pound whole weight ACL that was implemented in 2012 using a data-poor method, (2) set ACL equal to the annual estimate of ABC for each year 2017-21 (which would result in a declining annual yield) with the 2021 ACL remaining in place for subsequent years, (3) set ACL equal to a constant catch corresponding to the average ABC during 2017-21 (preferred alternative), or (4) set ACL equal to the equilibrium ABC, which is the catch level at which no further declines are projected under current biological conditions. The specific ACL yields for Alternatives 2, 3, and 4 depend upon the selection of MSY proxy in Acton 1.

Staff and a Council member will be available to answer any questions and the public will have the opportunity to provide testimony on the amendment and other related testimony.

The schedule is as follows:

Wednesday, May 24, 2017, Webinar—6 p.m. EDT at: https://attendee.gotowebinar.com/register/5395690967655721217.

After registering, you will receive a confirmation email containing information about joining the webinar.

Public documents may be obtained by contacting the Gulf of Mexico Fishery Management Council at (813) 348-1630 or on their Web site at www.gulfcouncil.org.

Authority: 16 U.S.C. 1801 et seq.

Dated: May 4, 2017.
Tracey L. Thompson,
Acting Deputy Director, Office of Sustainable Fisheries, National Marine Fisheries Service.

[FR Doc. 2017-09438 Filed 5-9-17; 8:45 am]

BILLING CODE 3510-22-P